DEPARTMENT OF THE TREASURY

Office of Foreign Assets Control

Payments to Persons Who Hold Certain Categories of Judgment Against Cuba or Iran

AGENCY: Department of the Treasury; Office of Foreign Assets Control.

ACTION: Notice.

SUMMARY: This notice explains the manner in which the Department of the Treasury interprets the direction in Section 2002 of the Victims of Trafficking and Violence Protection Act of 2000, Public Law No. 106-386 (“Section 2002”) to pay post-judgment interest on payments authorized by that section. This notice also explains that certain deficiencies in the information and documentation regarding payment information submitted by applicants will not prevent an application from being determined to be complying within the meaning of Part 3 of the Federal Register Notice published on November 22, 2000.

FOR FURTHER INFORMATION CONTACT: For questions regarding submission of applications, Rochelle E. Stern, Transactions Analysis Officer, Office of Foreign Assets Control. For legal questions, Brett D. Barkey, Attorney-Advisor, Office of the Chief Counsel (Foreign Assets Control). Both individuals can be reached at 202-622-2671 (not a toll free call).

SUPPLEMENTARY INFORMATION:

Part 1

Section 2002 provides that persons who hold certain judgments against Iran or Cuba may elect to receive payments from the Department of the Treasury equaling 110 percent or 100 percent “of compensatory damages awarded by judgment of a court on a claim or claims brought by the person under section 1605(a)(7) of title 28, United States Code, plus amounts necessary to pay post-judgment interest under section 1961 of such title, and, in the case of a claim or claims against Cuba, amounts awarded as sanctions by judicial order on April 18, 2000 (as corrected on June 2, 2000), subject to final appellate review of that order,” Section 2002(a)(1). This notice explains the manner in which the Department of the Treasury interprets the direction in Section 2002 to pay post-judgment interest under that section.

In making payments under Section 2002, subject to funds availability, the Department of the Treasury will pay post-judgment interest on 110 percent of compensatory damages or 100 percent of compensatory damages, according to whether the applicant elects to receive payment equaling 110 or 100 percent of compensatory damages. The Department of the Treasury will not pay post-judgment interest on portions of the judgment for which the applicant is not entitled to receive payment under Section 2002, including amounts awarded as punitive damages. Nor will the Department of the Treasury pay post-judgment interest on the amounts awarded as sanctions, as Section 2002(a)(1) does not provide for payment of post-judgment interest on sanctions awards.

Part 2

On November 22, 2000 at 65 FR 70382, the Office of Foreign Assets Control, Department of the Treasury, published a Federal Register Notice (“November Notice”) specifying the procedures necessary for persons to establish eligibility for payments authorized by Section 2002. The November Notice specified information that applicants must submit to establish eligibility and provided that an application would be determined to be “complying if the Department of the Treasury determines that it has received, for its review, all the information and documentation specified in Part 2(a)-(f)” of the November Notice. November Notice, Part 3(a).

Part 2(a)(2) of the November Notice specifies payment information needed to effect a payment to the applicant. This information relates to the administrative processing of the payment, not to the applicant's eligibility for payment under Section 2002. The Department of the Treasury has therefore determined that deficiencies in the material submitted pursuant to Part 2(a)(2) of the November Notice will not prevent an application from being determined to be complying under Part 3 of the November Notice. The Department of the Treasury will contact the applicant in order to obtain any missing or additional payment information under Part 2(a)(2) that the Department of the Treasury needs in order to effect a payment. Any information so requested must be provided to the Department of the Treasury in order for the applicant to receive payment.

Dated: December 12, 2000.
R. Richard Newcomb,
Director, Office of Foreign Assets Control.
Approved: December 12, 2000.
Elisabeth A. Bresee,
Assistant Secretary (Enforcement), Department of the Treasury.

[FR Doc. 00-32100 Filed 12-13-00; 10:34 am]

BILLING CODE 4810-25-M